DEPARTMENT OF HEALTH AND HUMAN SERVICES

National Institutes of Health

Submission for OMB Review; 30-Day Comment Request, Questionnaire Cognitive Interviewing and Pretesting (NCI)

SUMMARY: Under the provisions of Section 3507(a)(1)(D) of the Paperwork Reduction Act of 1995, the National Institutes of Health (NIH), has submitted to the Office of Management and Budget (OMB) a request for review and approval of the information collection listed below. This proposed information collection was previously published in the Federal Register on January 3, 2014, (Vol. 79, p. 402) and allowed 60-days for public comment. No public comments were received. The purpose of this notice is to allow an additional 30 days for public comment. The National Cancer Institute (NCI), National Institutes of Health, may not conduct or sponsor, and the respondent is not required to respond to, an information collection that has been extended, revised, or implemented on or after October 1, 1995, unless it displays a currently valid OMB control number.

Direct Comments To OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

DATES: Comment Due Date: Comments regarding this information collection are best assured of having their full effect if received within 30-days of the date of this publication.

FOR FURTHER INFORMATION CONTACT: To obtain a copy of the data collection plans and instruments or request more information on the proposed project contact: Gordon Willis, Division of Cancer Control and Population Sciences, 9609 Medical Center Drive, Rm 3E358, Bethesda, MD 20892-9762 or call non-toll-free number 240-276-6788 or Email your request, including your address to: willis@mail.nih.gov. Formal requests for additional plans and instruments must be requested in writing.

Proposed Collection: Questionnaire Cognitive Interviewing and Pretesting (NCI), 0925-0589, Revision, National Cancer Institute (NCI), National Institutes of Health (NIH).

Need and Use of Information Collection: For many surveys and self-report-based data collection efforts, it is advantageous to the government if development follows a pretesting sequence equivalent to that used at National Center for Health Statistics or the Census Bureau. For example, the Health Information National Trends Survey (HINTS: OMB No. 0925-0538) has undergone multiple cycles of cognitive testing to refine both the questionnaire, and supporting materials such as advance letters and brochures. The types of activities covered by this Generic request include: (1) Survey material development and pretesting based on cognitive interviewing methodology and use of focus groups, (2) Research on the cognitive aspects of survey methodology, (3) Research on computer-user interface design for computer-assisted instruments, also known as Usability Testing, (4) Pilot Household interviews are pilot tests (either personal, telephone, or Web-based) conducted with respondents using professional field interviewers; and (5) Formative research that depends on the use of interviewing techniques to develop products such as research priorities, or expert consensus on best practices. Additionally, formative research has been increasingly used to develop new data collection instruments using psychometric procedures, including Computerized Adaptive Testing (CAT). Test-retest reliability testing can also be used as a type of formative research in the development of questionnaires, software applications that depend on self-report, and other measurement instruments.

OMB approval is requested for 3 years. There are no costs to respondents other than their time. The total estimated annualized burden hours are 3,600.

3-Year Estimated Burden Hours
Type of respondents | Number of respondents | Number of responses per respondent | Average burden per response (in hours) | Burden hours
Physicians, Scientists and similar Respondents | 1,200 | 1 | 75/60 | 1,500
Experts in their Field | 600 | 1 | 75/60 | 750
Administrators/Managers | 600 | 1 | 75/60 | 750
General Public | 1,200 | 1 | 30/60 | 600

Dated: April 21, 2014.
Vivian Horovitch-Kelley,
NCI Project Clearance Liaison, National Institutes of Health.

[FR Doc. 2014-09446 Filed 4-24-14; 8:45 am]

BILLING CODE 4140-01-P